DEPARTMENT OF LABOR

Employment and Training Administration

[TA-W-58,754]

Allegheny Color Corp./Apollo Colors, Inc., Ridgway, PA; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification Regarding Eligibility to Apply for Worker Adjustment Assistance and Alternative Trade Adjustment Assistance on March 30, 2006, applicable to workers of Allegheny Color Corporation, a division of Apollo Colors, Inc., Ridgway, Pennsylvania. The notice was published in the Federal Register on April 17, 2006 (71 FR 19754).

At the request of the State agency and a company official, the Department reviewed the certification for workers of the subject firm. New information shows that a worker separation has occurred involving an employee of the Ridgway, Pennsylvania facility of Allegheny Color Corp./Apollo Colors, Inc. working out of his home in Radnor, Pennsylvania. Mr. Paul Bacci provided sales support services for the production of ink pigments at the Ridgway, Pennsylvania location of the subject firm.

Based on these findings, the Department is amending this certification to include an employee of the Ridgway, Pennsylvania facility of the subject firm working out of his home in Radnor, Pennsylvania, and to correct the subject firm name to read Allegheny Color Corp./Apollo Colors, Inc.

The intent of the Department's certification is to include all workers of the Ridgway, Pennsylvania location of the subject firm who was adversely affected by increased customer imports.

The amended notice applicable to TA-W-58,754 is hereby issued as follows:

All workers of Allegheny Color Corp./Apollo Colors, Inc., Ridgway, Pennsylvania, including an employee of Allegheny Color Corp./Apollo Colors, Inc., Ridgway, Pennsylvania working out of his home in Radnor, Pennsylvania, who became totally or partially separated from employment on or after January 30, 2005 through March 30, 2008, are eligible to apply for adjustment assistance under section 223 of the Trade Act of 1974 and are also eligible to apply for alternative trade adjustment assistance under section 246 of the Trade Act of 1974.

Signed at Washington, DC, this 28th day of April 2006.
Richard Church,
Certifying Officer, Division of Trade Adjustment Assistance.

[FR Doc. E6-7122 Filed 5-9-06; 8:45 am]

BILLING CODE 4510-30-P